DEPARTMENT OF LABOR

Employment and Training Administration

Workforce Investment Act; Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council as constituted under WIA.

Time and Date: The meeting will begin at 9 a.m. e.d.t. (eastern daylight saving time) on Tuesday, September 9, 2003, and continue until 5 p.m. e.d.t. that day. The meeting will reconvene at 9 a.m. e.d.t on Wednesday, September 10, 2003, and continue until approximately 5 p.m. e.d.t. on that day. The period from 3 p.m. to 5 p.m. e.d.t. on September 10 will be reserved for participation and presentation by members of the public. The meeting will reconvene on Thursday, September 11, 2003, and adjourn at approximately 12 noon e.d.t. on that day.

Place: All sessions will be held in Room N-3437 A, B, and C, FPB, U.S. Department of Labor, 200 Constitution Avenue, NW., Washington, DC 20210.

Status: The meeting will be open to the public. Persons who need special accommodations should contact Mr. Gross on (202) 693-3752 by September 3, 2003.

Matters to be Considered: The formal agenda will focus on the following topics: (1) Election of Council Chairperson, Vice-Chairperson, and other officers; (2) comments from the Department on overall employment and training issues, including implementation of the OMB “Common Measures” for evaluating employment and training programs: (3) Council workgroup reports; (4) status of the Council report to the Department and Congress; (5) status of the Technical Assistance and Training Initiative; and (6) status of Welfare Reform and WIA reauthorization legislation.

FOR FURTHER INFORMATION CONTACT: Mr. Greg Gross, Acting Chief, Division of Indian and Native American Programs, Office of National Programs, Employment and Training Administration, U.S. Department of Labor, Room S-5206, 200 Constitution Avenue, NW., Washington, DC 20210.

Telephone: (202) 693-3752 (VOICE) (this is not a toll-free number) or 1-800-877-8339 (TTY) or speech-to-speech at 1-877-877-8982 (these are toll-free numbers).

Signed at Washington, DC, this 14th day of August, 2003.
Emily Stover DeRocco,
Assistant Secretary, Employment and Training Administration.

[FR Doc. 03-21274 Filed 8-19-03; 8:45 am]

BILLING CODE 4510-30-P